DEPARTMENT OF THE INTERIOR

National Park Service

[NPS-WASO-NAGPRA-NPS0032453; PPWOCRADN0-PCU00RP14.R50000]

Notice of Intent To Repatriate Cultural Items: Gilcrease Museum, Tulsa, OK

AGENCY: National Park Service, Interior.

ACTION: Notice.

SUMMARY: The Gilcrease Museum, in consultation with the appropriate Indian Tribes or Native Hawaiian organizations, has determined that the cultural items listed in this notice meet the definition of sacred objects and objects of cultural patrimony. Lineal descendants or representatives of any Indian Tribe or Native Hawaiian organization not identified in this notice that wish to claim these cultural items should submit a written request to the Gilcrease Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Gilcrease Museum at the address in this notice by September 24, 2021.

FOR FURTHER INFORMATION CONTACT: Laura Bryant, Gilcrease Museum, 1400 N Gilcrease Museum Road, Tulsa, OK 74127, telephone (918) 596-2747, email laura-bryant@utulsa.edu.

SUPPLEMENTARY INFORMATION: Notice is here given in accordance with the Native American Graves Protection and Repatriation Act (NAGPRA), 25 U.S.C. 3005, of the intent to repatriate cultural items under the control of the Gilcrease Museum, Tulsa, OK, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the late 19th or early 20th century, 18 cultural items were removed from Mille Lacs Band of Ojibwe communities. Thomas Gilcrease likely acquired these items as part of a larger collection in the mid-1900s, though the exact details are unknown. Thomas Gilcrease transferred his collection to the City of Tulsa in 1955. The one object of cultural patrimony is a birch bark basket (accession number 71.454). The 17 sacred objects and objects of cultural patrimony are one loom beaded sash (84.1868), one sweet grass basket (71.226), and 15 bandolier bags (84.1721, 84.1729a-b, 84.1707, 84.1719a-b, 84.1720a-b, 84.1715a-b, 84.1708, 84.1717, 84.1711, 84.1714a-b, 84.1724a-b, 84.1706a-b, 84.1716a-b, 84.1710, and 84.1727a-b).

All these items are identified as Ojibwe in the Gilcrease Museum's records, and their cultural affiliation was confirmed during consultations with the Bois Forte Band (Nett Lake) and the Mille Lacs Band of the Minnesota Chippewa Tribe, Minnesota. The birch bark basket is a communally owned ceremonial object that could not be separated by an individual from the community. The beaded sash and basket are communally owned, are still used in ceremonies today, and have on-going historical, traditional, and cultural importance to the Ojibwe. Likewise, bandolier bags are owned by the community, are still used in traditional ceremonies today, and have on-going historical, traditional, and cultural importance to the Ojibwe.

Circa 1905, two cultural items were removed from a Mille Lacs Band of Ojibwe community in the Minneapolis, MN, by Mervin T. Miller. His son, Gordon Miller, inherited his father's collection and donated it to the Gilcrease Museum in 1972. The two sacred objects and objects of cultural patrimony are one pair of moccasins (84.2186a-b) and one beaded bag (84.2188).

Both items are identified as Ojibwe in the Gilcrease's records. As they were collected from Minneapolis, more likely than not, they are affiliated with the Mille Lacs Band of the Minnesota Chippewa Tribe, Minnesota. During consultation, the moccasins and beaded bag were determined to be communally owned, can be used in a traditional ceremony or dance today, and have on-going historical, traditional, or cultural importance to the Ojibwe.

Circa 1900, one cultural item was removed from an Ojibwe community. Emil Lenders, a painter and collector, traveled throughout the Plains around the turn of the century, at which time he acquired the item. In 1950, Thomas Gilcrease purchased Lenders' collection, including this item. Gilcrease transferred his collection to the City of Tulsa in 1955. The one sacred object and object of cultural patrimony is a pair of beaded cuffs (84.1847a-b).

These beaded cuffs are identified as possibly Chippewa (Ojibwe) in the Gilcrease's records, and their Ojibwe affiliation was confirmed during consultation. Beaded garters are communally owned, are still used in a traditional ceremony today, and have on-going historical, traditional, or cultural importance to the Ojibwe.

On an unknown date, one cultural item was removed from a Mille Lacs Band of Ojibwe community. It was purchased in a Warehouse Auction by John and Ruthene Alexander, who donated by them to the Gilcrease Museum in 2006. The one sacred object and object of cultural patrimony is a beaded bandolier bag (84.3295).

This bandolier bag is identified as Ojibwe in the Gilcrease's records, and their Ojibwe affiliation was confirmed during consultation. Bandolier bags are communally owned, are still used in traditional ceremonies today, and have on-going historical, traditional, or cultural importance to the Ojibwe.

In the early 1900s, one cultural item was removed from a Mille Lacs Band of Ojibwe community by Frank Engles, a collector. In 1950, Thomas Gilcrease purchased Frank Engles' collection, including this item. Gilcrease transferred his collection to the City of Tulsa in 1955. The one object of cultural patrimony is a war club with an attached scalp lock (73.247).

Frank Engles made a note that read, “The scalp is affiliated with the Ojebway [sic] tribe; however, the club belongs to the Chippeway [sic] of Minninsota [sic].” Through consultation with Minnesota Ojibwe tribes, this item has been affiliated with the Mille Lacs Band of the Minnesota Chippewa Tribe, Minnesota. The war club is communally owned and has on-going historical, traditional, and cultural importance to the Ojibwe.

Determinations Made by the Gilcrease Museum

Officials of the Gilcrease Museum have determined that:

• Pursuant to 25 U.S.C. 3001(3)(C), 21 of the 23 cultural items described above are specific ceremonial objects needed by traditional Native American religious leaders for the practice of traditional Native American religions by their present-day adherents.

• Pursuant to 25 U.S.C. 3001(3)(D), all 23 cultural items described above have ongoing historical, traditional, or cultural importance central to the Native American group or culture itself, rather than property owned by an individual.

• Pursuant to 25 U.S.C. 3001(2), there is a relationship of shared group identity that can be reasonably traced between the sacred objects and objects of cultural patrimony and the Minnesota Chippewa Tribe, Minnesota (Mille Lacs Band).

Additional Requestors and Disposition

Lineal descendants or representatives of any Indian Tribe or Native Hawaiian organization not identified in this notice that wish to claim these cultural items should submit a written request with information in support of the claim to Laura Bryant, Gilcrease Museum, 1400 N Gilcrease Museum Road, Tulsa, OK 74127, telephone (918) 596-2747, email laura-bryant@utulsa.edu, by September 24, 2021. After that date, if no additional claimants have come forward, transfer of control of the sacred objects and/or objects of cultural patrimony to the Minnesota Chippewa Tribe, Minnesota (Mille Lacs Band) may proceed.

The Gilcrease Museum is responsible for notifying the Minnesota Chippewa Tribe, Minnesota (Mille Lacs Band) that this notice has been published.

Dated: August 11, 2021.
Melanie O'Brien,
Manager, National NAGPRA Program.

[FR Doc. 2021-18270 Filed 8-24-21; 8:45 am]

BILLING CODE 4312-52-P